DEPARTMENT OF TRANSPORTATION

Office of the Secretary

Aviation Proceedings, Agreements Filed During the Week Ending May 25, 2001

The following Agreements were filed with the Department of Transportation under the provisions of 49 U.S.C. 412 and 414. Answers may be filed within 21 days after the filing of the application.

Docket Number: OST-2001-9725.

Date Filed: May 21, 2001.

Parties: Members of the International Air Transport Association.

Subject: PTC31 SOUTH 0106 dated May 18, 2001. Expedited South Pacific Resolutions r1-r4. Intended effective date: August 1, 2001.

Andrea M. Jenkins,
Federal Register Liaison.

[FR Doc. 01-14100 Filed 6-4-01; 8:45 am]

BILLING CODE 4910-62-P